OFFICE OF PERSONNEL MANAGEMENT

5 CFR Part 843

[Docket ID: OPM-2023-0008]

RIN 3206-AO55

Federal Employees' Retirement System; Present Value Conversion Factors for Spouses of Deceased Separated Employees; Correction

AGENCY: Office of Personnel Management.

ACTION: Proposed rule; correction.

SUMMARY: This document corrects the RIN in a proposed rule that was published in the Federal Register on July 14, 2023, regarding the Present Value Conversion Factors for Spouses of Deceased Separated Employees in the Federal Employees' Retirement System.

DATES: This correction is effective on September 27, 2023.

FOR FURTHER INFORMATION CONTACT: Karla Yeakle, (202) 606-0299.

SUPPLEMENTARY INFORMATION:

Correction

In the Federal Register of July 14, 2023, in FR Doc. 2023-14983, on page 45100 in the document heading, the RIN is corrected to read “3206-AO55.”

Dated: September 21, 2023.
Kayyonne Marston,
Federal Register Liaison.

[FR Doc. 2023-20963 Filed 9-26-23; 8:45 am]

BILLING CODE 6325-38-P